DEPARTMENT OF COMMERCE

Foreign-Trade Zones Board

[Docket 12-2003]

Foreign-Trade Zone 138—Columbus, OH, Area, Application for Expansion

An application has been submitted to the Foreign-Trade Zones (FTZ) Board (the Board), by the Columbus Regional Airport Authority (CRAA), grantee of Foreign-Trade Zone 138, requesting authority to expand and reorganize its zone in the Columbus, Ohio area, adjacent to the Columbus Customs port of entry. The application was submitted pursuant to the provisions of the Foreign-Trade Zones Act, as amended (19 U.S.C. 81a-81u), and the regulations of the Board (15 CFR part 400). It was formally filed on March 5, 2003.

FTZ 138 was approved on March 13, 1987 (Board Order 351, 52 FR 9319, 3/24/87) and expanded on February 23, 1994 (Board Order 685, 59 FR 10783, 3/8/94), November 9, 1999 (Board Order 1063, 64 FR 63786, 11/22/99), and on May 29, 2001 (Board Order 1166, 66 FR 32933, 6/19/01). The general-purpose zone currently consists seven sites (5,142 acres) in the Columbus area: Site 1 consists of 4,687 total acres in Franklin County, which includes the Rickenbacker International Airport and Air Industrial Park (Site 1A-3,892 acres), Alum Creek East Industrial Park (Site 1B-286 acres), and Alum Creek West Industrial Park (Site 1C-509 acres); Site 2 (136 acres) industrial park project, McClain Road, Lima (Allen County); Site 3 (42 acres) within the 90-acre Gateway Interchange Industrial Park, State Route 104 and U.S. Route 35, Chillicothe (Ross County); Site 4 (44 acres) within the 960-acre Rock Mill Industrial Park, south of Mill Park Drive, Lancaster (Fairfield County); Site 5 (133 acres) within the 149-acre D.O. Hall Business Center, SR 660 and north of Reitler Road, Cambridge (Guernsey County); Site 6 (74 acres) within the Eagleton Industrial Park, SR 142 and west of Spring Valley Road, London (Madison County); and, a Temporary Site (26 acres) located at 617 West Center Street, Marion (expires 9/1/05).

The applicant is now requesting authority for a major expansion/reorganization of the zone as described below. The proposal includes both additions and deletions with an overall decrease in total zone space. It requests authority to delete 977 acres from existing Site 1A; to expand Site 1 to include additional parcels (503 acres); to move 50 acres from existing Site 1B which includes a portion of Opus Business Center to Proposed Site 1F; and, to include 5 additional sites (340 acres) in the area.

Existing Site 1A—Rickenbacker International Airport and Air Industrial Park—modified by deleting 977 acres and adding 110 acres (3 parcels) within the airport complex (new total: 3,025 acres);

Existing Site 1B—Alum Creek East Industrial Park—modified by moving a 50-acre parcel of the Opus Business Center south of Rohr Road to Proposed Site 1F (new total: 236 acres);

Proposed Site 1D—100 acres within the 162-acre Rickenbacker West Industrial Park, located west of Shook Road and north of London-Groveport Road, Columbus;

Proposed Site 1E—100 acres (3 parcels) within the 292-acre Groveport Commerce Center, located on SR 317 (London-Groveport Road) north of Rohr Road, Village of Groveport;

Proposed Site 1F—95 acres within the 164-acre Opus Business Center, located south of Toy Road and north of Rohr Road and east of Opus Drive, Village of Groveport, and the 50-acre parcel moved from Site 1B (new total: 145 acres);

Proposed Site 1G—98 acres (8 parcels) within the 365-acre Creekside Industrial Center, located on Alum Creek Drive and Rohr Road and Creekside Parkway, south of Interstate 270, Village of Obetz;

Proposed Site 7—43 acres within the 123-acre Canal Pointe Industry and Commerce Park, located on Dove Parkway, one-half mile from US 33 and Diley Road interchange, Village of Canal Winchester (Fairfield County);

Proposed Site 8—99 acres within the 231-acre Gateway Business Park—West Campus, located at the SR 665 (London-Groveport Road) interchange on Interstate 71, south of Interstate 270, City of Grove City (Franklin County);

Proposed Site 9—100 acres within the 430-acre Etna Corporate Park, located north of U.S. 40 at Etna Parkway, Etna Township (Licking County);

Proposed Site 10—49 acres within the 300-acre Central Ohio Aerospace and Technology Center Campus, located at Central Parkway west of SR 79, City of Heath (Licking County); and,

Proposed Site 11—49 acres within the 52-acre Logan-Hocking Industrial Park, located on Chieftain Drive, north of the U.S. 33 and SR 664 intersection, City of Logan (Hocking County).

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW., Washington, DC 20230.

The closing period for their receipt is May 12, 2003. Rebuttal comments in response to material submitted during the foregoing period may be submitted during the subsequent 15-day period (to May 27, 2003).

A copy of the application and accompanying exhibits will be available for public inspection at the Office of the Foreign-Trade Zones Board's Executive Secretary at the first address listed above, and at the U.S. Department of Commerce Export Assistance Center, 280 North High Street, Suite 1400, Columbus, OH 43215.

Dated: March 5, 2003.
Dennis Puccinelli,
Executive Secretary.

[FR Doc. 03-5897 Filed 3-11-03; 8:45 am]

BILLING CODE 3510-DS-P